DEPARTMENT OF THE INTERIOR

National Park Service

Information Collection; Request for Extension

AGENCY: National Park Service, Interior

ACTION: Notice of request for extension of a currently approved information collection.

SUMMARY: In accordance with the Paperwork Reduction Act of 1995, this notice announces the National Park Service's intention to request an extension for a currently approved information collection in support of its Concession Management Program.

DATES: Comments in this notice must be received no later than November 22, 2002.

ADDITIONAL INFORMATION OR COMMENTS: Contact Cynthia Orlando, Concession Program Manager, National Park Service, 1849 C Street, NW., (2410), Washington, DC 20240 or 202/513-7144.

SUPPLEMENTARY INFORMATION:

Title: Proposed Sale of Concession Operations.

OMB Number: 1024-0126.

Expiration Date of Approval: August 31, 2002.

Type of Request: Extension of a currently approved information collection.

Abstract: The National Park Service (NPS) authorizes private businesses known concessioners to provide necessary and appropriate visitor facilities and services in areas of the National Park System. Concession authorizations may be assigned, sold, transferred or encumbered by the concessioner subject to prior written approval of the NPS. The NPS requires that certain information be submitted for a review prior to the consummation of any sale, transfer, assignment, or encumbrance.

16 U.S.C. 3 provides that no contract, lease, permit or privilege granted for the purpose of providing accommodations for visitors to the national parks shall be assigned or transferred by such grantee, permittees, or licenses without the approval of the NPS, first obtained in writing. It further provides that the NPS may authorize concessioners to execute mortgages and issue bonds, shares of stock, and other evidences or interest in or indebtedness upon their rights, properties and franchises, for the purposes of installing, enlarging or improving plant and equipment and extending facilities for the purposes of installing, enlarging or improving plant and equipment and extending facilities for the accommodation of the public within national parks and monuments. 16 U.S.C. 20(3) also provides that the possessory interest of a concessioner may be assigned, transferee, encumbered, or relinquished. Regulations at 36 CFR part 51 require that certain information be submitted for review by the NPS prior to the consummation of any sale, transfer, assignment or encumbrance.

The information requested is used to determine whether or not the proposed transaction will result in decreased services to the public, the lack of a reasonable opportunity for profit over the remaining term of the authorization, or rates in excess of existing approved rates to the public. In addition, pursuant to the regulations at 36 CFR, Part 51, the value of rights for intangible assets such as the concession contract, right of preference in renewal, user days, or low fees belong to the Government. If any portion of the purchase price is attributable either directly or indirectly to such assets, the transaction may not be approved. The amount and type of information to be submitted varies with the type and complexity of the proposed transaction. Without such information, the NPS would be unable to determine whether approval of the proposed transaction would be adequate.

Estimate of Burden: Approximately 8 hours per response.

Estimated Number of Resppondents: Approximately 20.

Estimated Number of Responses per Respondent: One.

Estimated Total Annual Burden on Respondents: 1600 Hours.

A list of information required to be submitted with a request for sale, assignment, transfer or encumbrance of a concession authorization is set forth at 36 CFR 51.7.

Send comments regarding the accuracy of the burden estimate, ways to minimize the burden, including the use of automated collection techniques or other forms of information technology, or any other aspect of this collection to: Cynthia L. Orlando, Concession Program Manager, National Park Service, Department of the Interior, 1849 C Street, NW., (2410), Washington, DC 20240.

All responses to this notice will be summarized and included in the request for OMB approval. All comments will also become a matter of public record.

Dated: September 13, 2002.
Richard G. Ring,
Associate Director for Park Operations and Education.

[FR Doc. 02-24044 Filed 9-20-02; 8:45 am]

BILLING CODE 4310-70-M